DEPARTMENT OF ENERGY

Federal Energy Regulatory Commission

[Project No. 12595-001; Project No. 12604-001]

Greybull Valley Irrigation District; Notice of Preliminary Permit Applications Accepted for Filing and Soliciting Comment, Motions To Intervene, and Competing Applications

December 9, 2008.

On November 3, 2008, Greybull Valley Irrigation District filed applications, pursuant to section 4(f) of the Federal Power Act, proposing to study the feasibility of the Lower Sunshine Dam and Upper Sunshine Dam Projects, to be located on the Greybull River, Park County, Wyoming.

The proposed Lower Sunshine Dam Project consists of: (1) An existing 178-foot-high, 1660-foot-long earthfill dam, (2) an existing impoundment having a surface area of 1,049 acres, with a storage capacity of 58,750 acre-feet and normal water surface elevation of 5,100 feet mean sea level, (3) a proposed 50-foot-long Steel Penstock, (4) a proposed powerhouse containing two generating units with a total installed capacity of 5.0 megawatts, (5) a proposed 1,700-foot-long, 25 kilovolt transmission line, and (6) appurtenant facilities. The project would have an annual generation of 12.4 gigawatt-hours that would be sold to a local utility.

The proposed Upper Sunshine Dam Project consists of: (1) An existing 155-foot-high, 1,050-foot-long earthfill dam, (2) an existing impoundment having a surface area of 1,158 acres, with a storage capacity of 53,575 acre-feet and normal water surface elevation of 5,300 feet mean sea level, (3) a proposed 50-foot-long Steel Penstock, (4) an existing powerhouse containing a generating unit having an installed capacity of 5 megawatts, (5) a proposed 3-mile-long, 25 kilovolt transmission line, and (6) appurtenant facilities. The project would have an annual generation of 6 gigawatt-hours that would be sold to a local utility.

Applicant Contact: Mr. William B. Schlenker, Greybull Valley Irrigation District, P.O. Box 44, Emblem, WY 82422-0044, (307) 762-3555.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12604 and P-12595) in the docket number field to access the document. For assistance, call toll-free 1-866-208-3372.

Kimberly D. Bose,
Secretary.

[FR Doc. E8-29853 Filed 12-16-08; 8:45 am]

BILLING CODE 6717-01-P